POSTAL SERVICE

39 CFR Parts 952, 953, and 964

Rules of Practice in Proceedings Relative to False Representation and Lottery Cases, Determinations of Nonmailability and Disposition of Mail Withheld From Delivery: Changes in Responsibility for Litigation

AGENCY: Postal Service.

ACTION: Final rule.

SUMMARY: The Postal Service™ is transferring responsibility for representation of the Postal Service in certain consumer protection administrative actions before the Judicial Officer Department from the Office of the General Counsel to the Inspection Service Office of Counsel.

DATES: Effective Date: September 13, 2006.

FOR FURTHER INFORMATION CONTACT: Diane Mego, Staff Counsel, Judicial Office, 703-812-1905.

SUPPLEMENTARY INFORMATION: Administrative adjudications involving false representation, illegal lotteries, and false and fictitious names or addresses have been brought before the Postal Service Judicial Office Department by attorneys assigned to the Office of General Counsel, with the inspector-attorneys serving as co-counsel. These matters will now be brought before the judicial officer by representatives assigned to the Inspection Service Office of Counsel. In addition, the Inspection Service Office of Counsel will also assume responsibility for representation of the Postal Service in appeals of determinations of nonmailability arising in connection with illegal lottery materials and fraudulent payment instruments identified at ports of entry into the United States by Customs and Border Protection agents. The Office of General Counsel will, however, continue to represent the Postal Service in mailability proceedings arising from appeals of decisions of the Pricing and Classification Service Center.

List of Subjects in 39 CFR Parts 952, 953 and 964

Administrative practice and procedure, Fraud, Lotteries, Postal Service.

For the reasons set out in this document, the Postal Service amends 39 CFR parts 952, 953 and 964 as set forth below.

PART 952—[AMENDED]

1. The authority citation for part 952 continues to read as follows:

Authority: 39 U.S.C. 204, 401, 3005, 3012, 3016.

§ 952.5 [Amended]

2. In § 952.5, in the first sentence remove the words “General Counsel of the Postal Service or his designated representative” and add in their place the words “the Chief Postal Inspector or his or her designated representative.” In the last sentence of the first paragraph remove the words “General Counsel” and add in their place the words “Chief Postal Inspector or his or designee.”

§ 952.29 [Amended]

3. In § 952.29, in the second sentence remove the words “General Counsel” and add in their place the words “Chief Postal Inspector or his or her designee.”

§ 952.30 [Amended]

4. In § 952.30, in the first sentence remove the words “General Counsel” and add in their place the words “Chief Postal Inspector or his or her designee.”

PART 953—[AMENDED]

5. The authority citation for 39 CFR part 953 continues to read as follows:

Authority: 39 U.S.C. 204, 401.

§ 953.3 [Amended]

6. In § 953.3, in § 953.3(e) add the words “or Chief Postal Inspector's or his or her designee's reply” after the words “General Counsel's.”

§ 953.4 [Amended]

7. Amend § 953.4 as follows:

A. In paragraph (a) introductory text, add the words “or Chief Postal Inspector's or his or her designee's” after the words “General Counsel's.”

B. In paragraph (a)(2)(i) add the words “or the Chief Postal Inspector or his or her designee” after the words “General Counsel.”

C. In paragraph (b), in the first sentence add the words “or the Chief Postal Inspector or his or her designee” after the words “General Counsel” and in the second sentence add the words “or the Chief Postal Inspector's or his or her designee's” after the words “General Counsel's.”

D. In paragraph (c), add the words “, the Chief Postal Inspector, or his or her designee,” after the words “General Counsel.”

§ 953.7 [Amended]

8. In § 953.7 [Amended], in the first sentence add the words “or the Chief Postal Inspector or his or her designee” after the words “General Counsel.” In the second sentence add the words “or the Chief Postal Inspector or his or her designee” after the words “General Counsel.”

§ 953.16 [Amended]

9. In § 953.16 in the third sentence add the words “or Chief Postal Inspector or his or her designee” after the words “General Counsel.” In the fifth sentence, add the words “or Chief Postal Inspector or his or her designee” after the words “General Counsel.”

PART 964—[AMENDED]

10. The authority citation for 39 CFR part 964 continues to read as follows:

Authority: 39 U.S.C. 204, 401, 3003, 3004.

11. Amend § 964.3 as follows:

§ 964.3 [Amended]

A. In paragraph (a), in the fifth sentence remove the words “General Counsel” and add in their place the words “Chief Postal Inspector or his or her designee.” In the last sentence, remove the words “General Counsel” and add in their place the words “Chief Postal Inspector or his or her designee.”

B. In paragraph (b), the last sentence, remove the words “General Counsel” and add in their place the words “Chief Postal Inspector or his or her designee.”

C. In paragraph (c), remove the words “General Counsel” and add in their place the words “Chief Postal Inspector or his or her designee.”

D. In paragraph (d), remove the words “General Counsel” and add in their place the words “Chief Postal Inspector or his or her designee.”

§ 964.20 [Amended]

12. In § 964.20, remove the words “General Counsel” and add in their place the words “Chief Postal Inspector or his or her designee.”

Stanley F. Mires
Chief Counsel, Legislative and Policy.

[FR Doc. E6-15113 Filed 9-12-06; 8:45 am]

BILLING CODE 7710-12-P